DEPARTMENT OF HEALTH AND HUMAN SERVICES

Health Resources and Services Administration

Bureau of Health Professions; All Advisory Committee Meeting; Notice of Meeting

In accordance with section 10(a)(2) of the Federal Advisory Committee Act (Pub. L. 92-463), notice is hereby given of the following meeting:

Name: Bureau of Health Professions All-Advisory Committee Meeting (AACM).

Dates and Times: April 21, 2010, 8 a.m.-5 p.m.

Place: Doubletree Hotel & Executive Meeting Center, 8120 Wisconsin Avenue, Bethesda, MD 20814.

Telephone: 301-652-2000.

Status: The meeting will be open to the public.

Purpose: The purpose of the meeting is to provide a venue for the Bureau of Health Professions' (BHPr) four advisory committees [the Council on Graduate Medical Education (COGME), the Advisory Committee on Training in Primary Care Medicine and Dentistry (ACTPCMD), the Advisory Committee on Interdisciplinary, Community-Based Linkages (ACICBL), and the National Advisory Council on Nurse Education and Practice (NACNEP)] to continue their joint work on interdisciplinary education and practice, and to also discuss and identify future opportunities for collaboration.

Agenda: The AACM agenda will include updates on Bureau and Departmental priorities, discussion of the joint work on interdisciplinary education and practice, and proposals for future Advisory Committee collaboration. Agenda items are subject to change as priorities dictate.

For Further Information Contact:

Anyone interested in obtaining a roster of members, minutes of the meeting, or other relevant information can contact the Bureau of Health Professions, Office of the Associate Administrator, 5600 Fishers Lane, room 9-05, Rockville, Maryland, 20857, telephone (301) 443-5794. Information can also be found at the following Web site: http://bhpr.hrsa.gov/.

Dated: March 2, 2010.
Sahira Rafiullah,
Director, Division of Policy and Information Coordination.

[FR Doc. 2010-5006 Filed 3-9-10; 8:45 am]

BILLING CODE 4165-15-P